DEPARTMENT OF JUSTICE

Notice of Lodging of Proposed Consent Decree Under the Clean Air Act

On October 27, 2022, the Department of Justice lodged a proposed consent decree with the United States District Court for the Northern District of Iowa in the lawsuit entitled United States v. Quad County Corn Processors Cooperative Civil Action No. 5:22-cv-04057-CJW-MAR.

The United States filed this lawsuit under the Clean Air Act. The United States' complaint seeks injunctive relief and civil penalties for violations of the regulations that govern the renewable fuel program at the defendant's corn processing facility in Galva, Iowa. The consent decree requires the defendant to perform injunctive relief and pay a civil penalty of $320,000 plus interest in installments over two years.

The publication of this notice opens a period for public comment on the proposed consent decree. Comments should be addressed to the Assistant Attorney General, Environment and Natural Resources Division, and should refer to United States v. Quad County Corn Processors Cooperative, D.J. Ref. No. 90-5-2-1-12296. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $7.00 (25 cents per page reproduction cost) payable to the United States Treasury.

Jeffrey Sands,
Assistant Section Chief, Environmental Enforcement Section, Environment and Natural Resources Division.

[FR Doc. 2022-23912 Filed 11-2-22; 8:45 am]

BILLING CODE 4410-15-P